DEPARTMENT OF AGRICULTURE

Forest Service

East Reservoir Project; Kootenai National Forest, Lincoln County, MT

AGENCY: Forest Service, USDA.

ACTION: Notice of intent to prepare an Environmental Impact Statement.

SUMMARY: The Forest Service will prepare an Environmental Impact Statement (EIS) to disclose the environmental effects of vegetation management through commercial timber harvest, commercial thinning, precommercial thinning and prescribed fire, trail access management changes, and treatment of fuel adjacent to private property. The project is located in the Cripple Planning Subunit on the Libby Ranger District, Kootenai National Forest, Lincoln County, Montana, and south of Libby, Montana.

DATES: The scoping period will close and comments will be due 45 days following publication of this notice.

ADDRESSES: Written comments and suggestions concerning the scope of the analysis should be sent to Malcolm R. Edwards, District Ranger, Libby Ranger District, 12557 Hwy 37, Libby, MT 59923. They can be mailed, hand-delivered between the hours of 7:30 a.m. and 4 p.m., or faxed to (406) 283-7531. Electronic comments may also be sent to comments-northern-kootenai-libby@fs.fed.us.

FOR FURTHER INFORMATION CONTACT: Denise Beck, Team Leader, Libby Ranger District, 12557 Hwy 37, Libby, MT 59923. Phone: (406) 293-7773.

SUPPLEMENTARY INFORMATION: The project area is approximately 30 air miles northeast of Libby, Montana, within all or portions of T30N, R28W, Sections 2 to 11, 13 to 30 and 32 to 36; T30N, R29W, Sections 1 to 4, 9 to 16 and 24; T31N, R327W, Sections 3 to 10, 15 to 18, 20 to 22, 28 and 29; T31N, R28W, Sections 1 thru 36; T31N, R29W, Sections 1, 2, 10 to 15, 22, 23, 26 to 36; T32N, R27W, Sections 7 to 9, 14 to 23 and 26 to 33; T32N, R28W, Sections 2 to 5 and 8 to 36; and T32N, R29W, Sections 24 to 26, 35 and 36 PMM, Lincoln County, Montana. The East Reservoir project area consists of five major drainages: Fivemile Creek, Warland Creek, Cripple Horse Creek, Canyon Creek and Dunn Creek.

Purpose and Need for Action

The purpose and need for this project is to: (1) Re-establish, restore and retain landscapes that are more resistant and resilient to disturbance (insect and disease infestations, fire) and uncertain environmental conditions (climate change) by enhancing species diversity and managing density; (2) reduce hazardous fuels adjacent to private property and across the landscape while re-introducing fire to the ecosystem; (3) restore, maintain or improve wildlife habitat; (4) improve recreation settings, opportunities and experiences; (5) provide amenities, jobs and products to the communities and maintain an adequate, balanced transportation system.

Proposed Action

To meet this purpose and need this project proposes:

(1) Vegetation treatments, including commercial timber harvest and associated fuel treatments, commercial thinning, precommercial thinning and prescribed burning without associated timber harvest. Vegetation treatments total approximately 13,000 acres of treated area.

(2) Road management includes new road construction, road storage and adding existing, undetermined roads to the National Forest Service road system. Approximately 2.04 miles of new road construction is proposed. Approximately 40 miles of road storage is proposed. There are 2.81 miles of roads in the project boundary that exist, but their status is undetermined. Those roads will be added to the NFS road system.

(3) Access change on approximately 35 miles of trail, from motorized to non-motorized, to benefit wildlife security.

(4) Fuels reduction and wildlife habitat enhancement is proposed for approximately 10,000 acres.

(5) Design features and mitigations to maintain and protect resource values.

Possible Alternatives

The Forest Service will consider a range of alternatives. One of these will be the “no action” alternative in which none of the proposed activities will be implemented. Additional alternatives will examine varying levels and locations for the proposed activities to achieve the proposal's purposes, as well as to respond to the issues and other resource values.

Responsible Official

Forest Supervisor of the Kootenai National Forest, 31374 U.S. Highway 2 West, Libby, MT 59923. As the Responsible Official, I will decide if the proposed project will be implemented. I will document the decision and reasons for the decision in the Record of Decision. I have delegated the responsibility for preparing the DEIS and FEIS to Malcolm R. Edwards, District Ranger, Libby Ranger District.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: November 5, 2010.
Paul Bradford,
Forest Supervisor, Kootenai National Forest.

[FR Doc. 2010-28614 Filed 11-12-10; 8:45 am]

BILLING CODE 3410-11-P